DEPARTMENT OF LABOR

Occupational Safety and Health Administration

Susan Harwood Training Grant Program, FY 2007

AGENCY: Occupational Safety and Health Administration, Labor.

ACTION: Initial announcement of availability of funds and solicitation for grant applications.

Funding Opportunity No.: SHTG-FY-07-01.

Catalog of Federal Domestic Assistance No.: 17.502.

SUMMARY: The U.S. Department of Labor, Occupational Safety and Health Administration (OSHA) awards funds to nonprofit organizations to provide training and education programs for employers and employees about safety and health topics selected by OSHA. Nonprofit organizations, including community-based and faith-based organizations, that are not an agency of a State or local government are eligible to apply. Additionally, State or local government-supported institutions of higher education are eligible to apply in accordance with 29 CFR part 95. This notice announces grant availability for Susan Harwood Training Program grants. This notice contains all of the necessary information and forms needed to apply for grant funding.

DATES: Grant applications must be received electronically by the Grants.gov system no later than 4:30 p.m., E.T., on Friday, July 20, 2007, the application deadline date.

ADDRESSES: Applications for grants submitted under this competition must be submitted electronically using the Government-wide Grants.gov Apply site at http://www.grants.gov. If applying online poses a hardship to any applicant, the OSHA Directorate of Training and Education will provide assistance to ensure that applications are submitted online by the closing date. Applicants must contact the OSHA Directorate of Training and Education office listed on the announcement at least one week prior to the application deadline date, (or no later than 4:30 p.m., E.T., on Friday, July 13, 2007) to speak to a representative who can provide assistance to ensure that applications are submitted online by the closing date. Requests for extensions to this deadline will not be granted. Further information regarding submitting your grant application electronically is listed in Section IV, Item 3, Submission Date, Times, and Addresses.

FOR FURTHER INFORMATION CONTACT: Any questions regarding this SGA should be directed to Cynthia Bencheck, Program Analyst, e-mail address: bencheck.cindy@dol.gov, tel: 847-297-4810 (note that this is not a toll-free number), or Jim Barnes, Director, Office of Training and Educational Programs, e-mail address barnes.jim@dol.gov, tel: 847-297-4810. To obtain further information on the Susan Harwood Training Grant Program of the U.S. Department of Labor, visit the OSHA Web site of the Occupational Safety and Health Administration at http://www.osha.gov.

SUPPLEMENTARY INFORMATION:

I. Funding Opportunity Description

Overview of the Susan Harwood Training Grant Program

The Susan Harwood Training Grant Program provides funds for programs to train employees and employers to recognize, avoid, and prevent safety and health hazards in their workplaces. The program emphasizes four areas:

• Educating employees and employers in small businesses. For purposes of this grant program, a small business is one with 250 or fewer employees.

• Training employees and employers about new OSHA standards.

• Training at-risk employer and employee populations.

• Training employees and employers about high risk activities or hazards identified by OSHA through the Department of Labor's Strategic Plan, or as part of an OSHA special emphasis program.

Grant Category Being Announced

Under this solicitation for grant applications, OSHA will accept applications for the Targeted Topic training grant category.

Topics for the Targeted Topic Training Category

Organizations funded for Targeted Topic training category grants are expected to develop and provide occupational safety and health training and/or educational programs addressing one of the topics selected by OSHA, recruit employees and employers for the training, and conduct and evaluate the training. Grantees are also expected to conduct follow-up evaluations with individuals trained by their program to determine what, if any, changes were made to reduce hazards in their workplaces as a result of the training. If your organization plans to train employees or employers in any of the 26 states operating OSHA-approved State Plans, State OSHA requirements for that state must be included in the training.

Fourteen different training topics were selected for this grant announcement. OSHA may award grants for some or all of the listed Targeted Topic training topics. Applicants wishing to address more than one of the announced grant topics must submit a separate grant application for each topic. Each application must propose a plan for developing and conducting training programs addressing the recognition and prevention of safety and health hazards for one of the topics listed below.

Construction Industry Hazards

Programs that train employees and employers in the recognition and prevention of safety and health hazards on one of the following topics.

• Focus Four construction hazards (falls, electrocution, caught-in and struck-by).

• Residential Construction general safety and health hazards, including falls.

• Excavation and Trenching hazards.

• Residential and Commercial Roofing hazards, including falls.

General Industry Hazards

Programs that train employees and employers in the recognition and prevention of safety and health hazards on one of the following topics.

• Electrical Hazards, including Arc Flash (based on 29 CFR Part 1910, Subpart S, revised 02/14/07).

• Combustible Dust.

• Powered Industrial Vehicles.

• Process Safety Management in Refineries.

• Process Safety Management for Anhydrous Ammonia.

• Night Time Sanitation and Maintenance, Third Shift Maintenance and Cleanup, including Lockout/Tagout and Confined Space Hazards.

• Health Hazards in Food Processing.

• Preparing Small Business Workplaces for Influenza Pandemic. Training should incorporate information from OSHA publication OSHA 3327-02N 2007: “Guidance on Preparing Workplaces for an Influenza Pandemic” which is available on-line at http://www.osha.gov/Publications/OSHA3327pandemic.pdf; and/or from OSHA publication OSHA 3328-05 2007: “Pandemic Influenza Preparedness and Response Guidance for Healthcare Workers and Healthcare Employers) which is available on-line at http://www.osha.gov/Publications/OSHA_pandemic_health.pdf.

Other Safety and Health Topic Areas

Programs that train employees and employers in the recognition and prevention of safety and health hazards on one of the following topics.

• Driver Safety, prevention of work-related motor vehicle accidents and fatalities.

• Native American Tribal Safety and Health Issues.

II. Award Information

Targeted Topic training grants will be awarded for a 12-month period. The project period for these grants begins September 30, 2007, and ends September 30, 2008. There is approximately $10.1 million available for this grant category. The average federal award will be $175,000.

III. Eligibility Information

1. Eligible Applicants

Nonprofit organizations, including community-based and faith-based organizations, that are not an agency of a State or local government are eligible to apply. Additionally, State or local government supported institutions of higher education are eligible to apply in accordance with 29 CFR part 95. Eligible organizations can apply independently for funding or in partnership with other eligible organizations, but in such a case, a lead organization must be identified. Sub-contracts must be awarded in accordance with 29 CFR 95.40-48, including OMB circulars requiring free and open competition for procurement transactions.

A 501(c)(4) nonprofit organization, as described in 26 U.S.C. 501(c)(4), that engages in lobbying activities will not be eligible for the receipt of federal funds constituting an award, grant or loan. See 1 U.S.C. 1611.

Applicants other than State or local government supported institutions of higher education will be required to submit evidence of nonprofit status, preferably from the Internal Revenue Service (IRS).

2. Cost Sharing or Matching

Applicants are not required to contribute non-federal resources.

3. Other Eligibility Requirements

A. Legal Rules Pertaining to Inherently Religious Activities by Organizations That Receive Federal Financial Assistance

The U. S. Government is generally prohibited from providing “direct” financial assistance for inherently religious activities.¹

¹ In this context, the term direct financial assistance means financial assistance that is provided directly by a government entity or an intermediate organization, as opposed to financial assistance that an organization receives as the result of the genuine and independent private choice of a beneficiary. In other contexts, the term “direct” financial assistance may be used to refer to financial assistance that an organization receives directly from the Federal government (also know as “discretionary” assistance), as opposed to assistance that it receives from a State or Local government (also know as “indirect” or “block” grant assistance). The term “direct” has the former meaning throughout this solicitation for grant applications (SGA).

The Grantee may be a faith-based organization or work with and partner with religious institutions; however, “direct” federal assistance provided under grants with the U. S. Department of Labor may not be used for religious instruction, worship, prayer, proselytizing or other inherently religious practices. 29 CFR Part 2, Subpart D governs the treatment in Department of Labor government programs of religious organizations and religious activities; the Grantee and sub-contractors are expected to be aware of and observe the regulations in this subpart.

IV. Application and Submission Information

1. Application Package

All information and forms needed to apply for this funding opportunity are published as part of this Federal Register notice, and in the Federal Register, which may be obtained from your nearest federal depository library or online at http://www.archives.gov/federal-register/index.html. For informational purposes, the complete Federal Register notice and application forms are also posted on the OSHA Susan Harwood Training Grant Program Web site at http://www.osha.gov/dcsp/ote/sharwood.html.

2. Content and Form of Application Submission

Each grant application must address only one of the announced topics. Organizations interested in applying for grants for more than one of the announced grant topics must submit a separate application for each grant topic.

A. Required Contents

A complete application will contain the following forms and narrative sections.

(1) Application for Federal Assistance form (SF 424). The individual signing the SF 424 form on behalf of the applicant must be authorized to bind the applicant.

Your organization is required to have a Data Universal Number System (DUNS) number from Dun and Bradstreet to complete this form. Information about “Obtaining a DUNS Number—A Guide for Federal Grant and Cooperative Agreement Applicants” is available at http://www.whitehouse.gov/omb/grants/duns_num_guide. pdf.

(2) Survey on Ensuring Equal Opportunity for Applicants (Faith-Based EEO Survey) form OMB No. 1890-0014.

(3) Program Summary (described further in subsection B below). The program summary is a short one-to-two page single-sided abstract that succinctly summarizes the proposed project and provides information about the applicant organization.

(4) Budget Information form (SF 424A).

(5) Detailed Project Budget Backup. The detailed budget backup will provide a detailed break out of the costs that are listed in Section B of the SF 424A Budget Information form. If applicable: Provide a copy of approved indirect cost rate agreement and statement of program income.

(6) A description of any voluntary non-federal resource contribution to be provided by the applicant, including source of funds and estimated amount.

(7) Technical Proposal program narrative (described further in subsection B below), not to exceed 30 single-sided pages, double-spaced, 12-point font, containing: Problem Statement/Need for Funds; Administrative and Program Capability; and Work Plan.

(8) Assurances form (SF 424B).

(9) Combined Assurances, ED 80-0013.

(10) Organizational Chart.

(11) Evidence of Non-Profit status, preferably from the Internal Revenue Service (IRS), if applicable. (Does not apply to State and local government-supported institutions of higher education.)

(12) Accounting System Certification, if applicable. Organizations that receive less than $1 million annually in federal grants must attach a certification signed by your certifying official stating that your organization has a functioning accounting system that meets the criteria below. Your organization may also designate a qualified entity (include the name and address in the documentation) to maintain a functioning accounting system that meets the criteria below. The certification should attest that your organization's accounting system provides for the following:

(a) Accurate, current and complete disclosure of the financial results of each federally sponsored project.

(b) Records that identify adequately the source and application of funds for federally sponsored activities.

(c) Effective control over and accountability for all funds, property and other assets.

(d) Comparison of outlays with budget amounts.

(e) Written procedures to minimize the time elapsing between the transfer of funds.

(f) Written procedures for determining the reasonableness, allocability and allowability of costs.

(g) Accounting records, including cost accounting records that are supported by source documentation.

(13) Any attachments such as resumes of key personnel or position descriptions, exhibits, information on prior government grants, and signed letters of commitment to the project.

To be considered responsive to this solicitation, the application must consist of the above mentioned separate parts. Major sections and sub-sections of the application should be divided and clearly identified, and all pages shall be numbered. Standard forms, attachments, exhibits and the Program Summary abstract are not counted toward the page limit.

The forms listed above are included as a part of this Federal Register notice. The forms are also available on the OSHA grant Web site http://www.osha.gov/dcsp/ote/sharwood.html.

B. Budget Information

Applicants must include the following grant project budget information.

(1) Budget Information form (SF 424A).

(2) A Detailed Project Budget that clearly details the costs of performing all of the requirements presented in this solicitation. The detailed budget will break out the costs that are listed in Section B of the SF 424A Budget Information form.

Applicants are reminded to budget for compliance with the administrative requirements set forth. (Copies of all regulations that are referenced in this solicitation for grant applications (SGA) are available on-line at no cost at http://www.osha.gov/dcsp/ote/sharwood.html.) This includes the costs of performing activities such as travel for two staff members, one program and one financial, to the Chicago area to attend a new grantee orientation meeting; financial audit, if required; project closeout; document preparation (e.g., quarterly progress reports, project document); and ensuring compliance with procurement and property standards.

The Detailed Project Budget should break out administrative costs separately from programmatic costs for both federal and non-federal funds. Administrative costs include indirect costs from the costs pool and the cost of activities, materials, meeting close-out requirements as described in Section VI, and personnel (e.g., administrative assistants) who support the management and administration of the project but do not provide direct services to project beneficiaries. Indirect cost charges, which are considered administrative costs, must be supported with a copy of an approved Indirect Cost Rate Agreement form. Administrative costs cannot exceed 25% of the total grant budget. The project budget should clearly demonstrate that the total amount and distribution of funds is sufficient to cover the cost of all major project activities identified by the applicant in its proposal, and must comply with federal cost principles (which can be found in the applicable OMB Circulars).

(3) A description of any voluntary non-federal resource contribution to be provided by the applicant, including source of funds and estimated amount.

C. Program Summary and Technical Proposal

The Program Summary and the Technical Proposal will contain the narrative segments of the application. The Program Summary abstract is not to exceed two single-sided pages. The Technical Proposal program narrative section is not to exceed 30 single-sided (8½″ × 11″ or A4), double-spaced, 12-point font, typed pages, consisting of the Problem Statement/Need for Funds, Administrative and Program Capability, and Work Plan. Reviewers will only consider Technical Proposal information up to the 30-page limit. The Technical Proposal must demonstrate the capability to successfully administer the grant and to meet the objectives of this solicitation. The Technical Proposal will be rated in accordance with the selection criteria specified in Section V.

The Program Summary and Technical Proposal must include the following sections.

(1) Program Summary. An abstract of the application, not to exceed two single-sided pages, that must include the following information.

• Applicant organization's full legal name.

• Project director's name, title, street address, and mailing address if it is different from the street address, telephone and fax numbers, and e-mail address. The Project Director is the person who will be responsible for the day-to-day operation and administration of the program.

• Certifying Representative's name, title, street address, and mailing address if it is different from the street address, telephone and fax numbers, and e-mail address. The Certifying Representative is the official in your organization who is authorized to enter into grant agreements.

• Funding requested. List how much federal funding you are requesting. If your organization is contributing non-federal resources, also list the amount of non-federal resources and the source of those funds.

• Grant Topic. List the grant topic and industry or subject area your organization has selected to target in its application.

• Summary of the Proposed Project. Write a brief program summary of your proposed grant project.

• Applicant Background. Describe your applicant organization, including its mission, identify the type of non-profit organization it is, and provide a description of your membership, if any.

(2) The Technical Proposal program narrative segment, which is not to exceed 30 single-sided, double-spaced, 12-point font pages in length, must address each section listed below.

• Problem Statement/Need for Funds. Describe the hazards that will be addressed in your program, the target population(s) that will benefit from your training and education program, and the barriers that have prevented this population from receiving adequate training. When you discuss target populations, include geographic location(s), and the number of employees and employers.

• Administrative and Program Capability. Briefly describe your organization's functions and activities. Relate this description of functions to your organizational chart that you will include in the application. If your organization is conducting, or has conducted within the last five years, any other government (federal, State, or local) grant programs, the application must include an attachment (which will not count towards the page limit) providing information regarding previous grants including (a) the organization for which the work was done, and (b) the dollar value of the grant. If your organization has not had previous grant experience, you may partner with an organization that has grant experience to manage the grant. If you use this approach, the management organization must be identified and its grant program experience discussed.

Program Experience. Describe your organization's experience conducting the type of program that you are proposing. Include program specifics such as program titles, numbers trained and duration of training. Experience includes safety and health experience, training experience with adults, and programs operated specifically for the selected target population(s). Nonprofit organizations, including community-based and faith-based organizations, that do not have prior experience in safety and health may partner with an established safety and health organization to acquire safety and health expertise.

Staff Experience. Describe the qualifications of the professional staff you will assign to the program. Include resumes of staff already on board. If some positions are vacant, include position descriptions/minimum hiring qualifications instead of resumes. Qualified staff are those with safety and health experience, training experience, or experience working with the target population.

• Work Plan. The 12-month work plan should correlate with the grant project period that will begin September 30, 2007, and end September 30, 2008. An outline of specific items required in your work plan follows:

Plan Overview. Describe your plan for grant activities and the anticipated outcomes. The overall plan will describe such things as the development of training materials, the training content, recruiting of trainees, where or how training will take place, and the anticipated benefits to employees and employers receiving the training.

Activities. Break your overall plan down into activities or tasks. For each activity, explain what will be done, who will do it, when it will be done, and the results of the activity. When you discuss training, include the subjects to be taught, the length of the training sessions, and training location (classroom, worksites). Describe how you will recruit trainees for the training.

Quarterly Projections. For training and other quantifiable activities, estimate how many (e.g., number of advisory committee meetings, classes to be conducted, employees and employers to be trained, etc.,) you will accomplish each quarter of the grant (grant quarters match calendar quarters, i.e., January to March, April to June) and provide the training number totals for the grant. Quarterly projections are used to measure your actual performance against your plans. If you plan to conduct a train-the-trainer program, estimate the number of individuals you expect to be trained during the grant period by those who received the train-the-trainer training. These second tier training numbers should only be included if your organization is planning to follow up with the trainers to obtain this data during the grant period.

Materials. Describe each educational material you will produce under the grant, if not treated as a separate activity under Activities above. Provide a timetable for developing and producing the material. OSHA must review and approve training materials for technical accuracy and suitability of content before the materials may be used in your grant program. Therefore, your timetable must include provisions for an OSHA review of draft and camera-ready products. Acceptable formats for training materials include Microsoft Office 2003 and Adobe Reader 7. For Targeted Topic training grants, any previously developed training materials you are proposing to utilize in your grant training must also go through an OSHA review before being used.

Evaluations. There are three types of evaluations that should be conducted. First, describe plans to evaluate the training sessions. Second, describe your plans to evaluate your progress in accomplishing the grant work activities listed in your application. This includes comparing planned vs. actual accomplishments. Discuss who is responsible for taking corrective action if plans are not being met. Third, describe your plans to assess the effectiveness of the training your organization is conducting. This will involve following-up, by survey or on-site review, if feasible, with individuals who attended the training to find out what changes were made to abate hazards in their workplaces. Include timetables for follow-up and for submitting a summary of the assessment results to OSHA.

(3) An organizational chart of the staff that will be working on this grant and their location within the applicant organization.

Attachments: Summaries of other relevant organizational experiences; information on prior government grants; resumes of key personnel and/or position descriptions; and signed letters of commitment to the project.

3. Submission Date, Times, and Addresses

Date: The deadline date for receipt of applications is Friday, July 20, 2007. Applications must be received by 4:30 p.m., E.T., on the closing date at http://www.grants.gov. Any application received after the deadline will not be accepted.

Electronic Submission of Applications: Applications for Susan Harwood grants under this competition must be submitted electronically using the Grants.gov Apply site at http://www.grants.gov. Through this site you will be able to download a copy of the application package, complete it offline, and then upload and submit your full application. Applications sent by mail or other delivery services, e-mail, telegram, or facsimile (FAX) will not be accepted. Applications that do not meet the conditions set forth in this notice will not be honored.

For applicants using Grants.gov for the first time, it is strongly recommended that they immediately initiate and complete the “Get Started” steps to register with Grants.gov, at http://www.grants.gov/GetStarted. These steps will probably take multiple days to complete, which should be factored into an applicant's plans for electronic application submission in order to avoid unexpected delays that could result in the rejection of the application. Acceptable formats for document attachments submitted as a part of a Grants.gov grant application include Microsoft Office 2003 and Adobe Reader 7.

If you have questions regarding the process for submitting your application through Grants.gov, or are experiencing problems with electronic submissions, you may contact the Grants Program Management Office via one of the methods below:

• E-mail at support@grants.gov;

• Telephone the Grants.gov Contact Center Phone: 1-800-518-4726. The Contact Center hours of operation are Monday-Friday, 7 a.m. to 9 p.m., Eastern Time; closed on federal holidays.

• When contacting the Grants Program Management Office, the following information will help expedite your inquiry:

○ Funding Opportunity Number (FON).

○ Name of Agency You Are Applying To.

○ Specific Area of Concern.

If applying online poses a hardship to any applicant, the OSHA Directorate of Training and Education will provide assistance to ensure that applications are submitted online by the closing date. Applicants must contact the OSHA Directorate of Training and Education office listed on the announcement at least one week prior to the application deadline date (or no later than 4:30 p.m., E.T., on Friday, July 13, 2007) to speak to a representative who can provide assistance to ensure that applications are submitted online by the closing date. Requests for extensions to this deadline will not be granted.

4. Intergovernmental Review

The Harwood Training Grant Program is not subject to Executive Order 12372 Intergovernmental Review of Federal Programs.

5. Funding Restrictions

Grant funds may be spent on the following.

(a) Conducting training.

(b) Conducting other activities that reach and inform employees and employers about workplace occupational safety and health hazards and hazard abatement.

(c) Conducting outreach and recruiting activities to increase the number of employees and employers participating in the program.

(d) Developing educational materials for use in training.

Grant funds may not be used for the following activities under the terms of the grant program.

(a) Any activity that is inconsistent with the goals and objectives of the Occupational Safety and Health Act of 1970.

(b) Training individuals not covered by the Occupational Safety and Health Act.

(c) Training employees or employers from workplaces not covered by the Occupational Safety and Health Act. Examples include:

State and local government employees in non-State Plan States, and employees referenced in section 4 (b)(1) of the Act.

(d) Training on topics that do not cover the recognition, avoidance, and prevention of unsafe or unhealthy working conditions. Examples of unallowable topics include: Workers’ compensation, first aid, and publication of materials prejudicial to labor or management.

(e) Assisting employees in arbitration cases or other actions against employers, or assisting employers and employees in the prosecution of claims against federal, State or local governments.

(f) Duplicating services offered by OSHA, a State under an OSHA-approved State Plan, or consultation programs provided by State designated agencies under section 21(d) of the Occupational Safety and Health Act.

(g) Generating membership in the grantee's organization. This includes activities to acquaint nonmembers with the benefits of membership, inclusion of membership appeals in materials produced with grant funds, and membership drives.

(h) The cost of lost-time wages paid by you or other organizations to students while attending grant-funded training.

(i) Administrative costs cannot exceed 25% of the total grant budget.

While the activities described above may be part of an organization's regular programs, the costs of these activities cannot be paid for by grant funds, whether the funds are from non-federal matching resources or from the federally funded portion of the grant.

Determinations of allowable costs will be made in accordance with the applicable federal cost principles, e.g., Nonprofit Organizations—2 CFR part 230, formerly OMB Circular A-122; Educational Institutions—2 CFR part 220, formerly OMB Circular A-21. Disallowed costs are those charges to a grant that the grantor agency or its representative determines to not be allowed in accordance with the applicable federal cost principles or other conditions contained in the grant.

No applicant at any time will be entitled to reimbursement of preaward costs.

V. Application Review Information

Grant applications will be reviewed by technical panels comprised of OSHA staff. The results of the grant reviews will be presented to the Assistant Secretary of OSHA, who will make the selection of organizations to be awarded grants. OSHA may award grants for some or all of the listed topic areas. It is anticipated that the grant awards will be announced in September 2007.

1. Evaluation Criteria

The technical panels will review grant applications against the criteria listed below on the basis of 100 maximum points. Targeted Topic training grant category applications will be reviewed and rated as follows.

A. Technical Approach, Program Design—50 Points Total

Program Design

(1) The proposed training and education program must address the recognition and prevention of safety and health hazards for one of the Targeted Topic subject areas identified in Section I of this SGA. (1 point)

(2) The proposal plans to train employees and/or employers, clearly estimates the numbers to be trained, and clearly identifies the types of employees and employers to be trained. The training will reach employees and employers from multiple employers. (4 points)

(3) If the proposal contains a train-the-trainer program, the following information must be provided: (4 points)

• What ongoing support the grantee will provide to new trainers;

• The number of individuals to be trained as trainers;

• The estimated number of courses to be conducted by the new trainers;

• The estimated number of students to be trained by these new trainers; and

• A description of how the grantee will obtain data from the new trainers documenting their classes and student numbers.

(4) There is a well-developed work plan, and activities and training are adequately described. The planned activities and training are appropriately tailored to the needs and levels of the employees and employers to be trained. The target audience to be served through the grant program is described. (20 points)

(5) The training materials and training programs are tailored to the training needs of one or more of the following target audiences; and the need for training is established: small businesses; new businesses; limited English proficiency, non-literate and low literacy workers; youth; immigrant and minority workers, and other hard-to-reach workers; and employees in high-hazard industries and industries with high fatality rates. Organizations proposing to develop Spanish-language training materials should utilize the OSHA Dictionaries (English-to-Spanish and Spanish-to-English) for terminology. The dictionaries are available on the OSHA Web site at: http://www.osha.gov/dcsp/compliance_assistance/spanish_dictionaries.html. Organizations proposing to develop materials in languages other than English will also be required to provide an English version of the materials. (10 points)

(6) There is a sound plan to recruit trainees for the program. (4 points)

(7) If the proposal includes developing educational materials for use in the training program, there is a plan for OSHA to review the educational materials for technical accuracy and suitability of content during development. If previously-developed training products will be used for the Targeted Topic training program, applicants have a plan for OSHA to review the materials before using the products in their grant program. (1 point)

(8) There are plans for three different types of evaluation. The plans include evaluating your organization's progress in accomplishing the grant work activities and accomplishments, evaluating your training sessions, and evaluating the program's effectiveness and impact to determine if the safety and health training and services provided resulted in workplace change. This includes a description of the evaluation plan to follow up with trainees to determine the impact the program has had in abating hazards and reducing worker injuries. (5 points)

(9) The application is complete, including forms, budget detail, narrative and work plan, and required attachments. (1 points)

B. Budget—20 Points Total

(1) The budgeted costs are reasonable. No more than 25% of the total budget is for administration. (12 points)

(2) The budget complies with federal cost principles (which can be found in the applicable OMB Circulars) and with OSHA budget requirements contained in the grant application instructions. (3 points)

(3) The cost per trainee is less than $500 and the cost per training hour is reasonable. (5 points)

C. Past Performance—15 Points Total

(1) The organization applying for the grant demonstrates experience with occupational safety and health. Applicants that do not have prior experience in providing safety and health training to employees or employers may partner with an established safety and health organization to acquire safety and health expertise. (4 points)

(2) The organization applying for the grant demonstrates experience training adults in work-related subjects or in recruiting, training and working with the target audience for this grant. (4 points)

(3) The application organization demonstrates that the applicant has strong financial management and internal control systems. (4 points)

(4) The applicant organization has administered, or will work with an organization that has administered, a number of different federal and/or State grants over the past five years. (3 points)

D. Experience and Qualification of Personnel—15 Points Total

(1) The staff to be assigned to the project has experience in occupational safety and health, the specific topic chosen, and in training adults. (10 points)

(2) Project staff has experience in recruiting, training, and working with the population your organization proposes to serve under the grant. (5 points)

2. Review and Selection Process

OSHA will screen all applications to determine whether all required proposal elements are present and clearly identifiable. Applications that do not may be deemed non-responsive and may not be evaluated. A technical panel will objectively rate each complete application against the criteria described in this announcement. The panel recommendations to the Assistant Secretary are advisory in nature. The Assistant Secretary may establish a minimally acceptable rating range for the purpose of selecting qualified applicants. The Assistant Secretary will make a final selection determination based on what is most advantageous to the government, considering factors such as panel findings, geographic presence of the applicants, Agency priorities, the best value to the government, cost, and other factors. The Assistant Secretary's determination for award under this solicitation for grant applications (SGA) is final.

3. Anticipated Announcement and Award Dates

Announcement of these awards is expected to occur by September 30, 2007.

The grant agreement will be awarded by no later than September 2007.

VI. Award Administration Information

1. Award Process

Organizations selected as grant recipients will be notified by a representative of the Assistant Secretary, usually from an OSHA Regional Office. An applicant whose proposal is not selected will be notified in writing.

Notice that an organization has been selected as a grant recipient does not constitute approval of the grant application as submitted. Before the actual grant award, OSHA will enter into negotiations concerning such items as program components, staffing and funding levels, and administrative systems. If the negotiations do not result in an acceptable submittal, the Assistant Secretary reserves the right to terminate the negotiation and decline to fund the proposal.

Note: Except as specifically provided, OSHA's acceptance of a proposal and an award of Federal funds to sponsor any program(s) does not provide a waiver of any grant requirement or procedures. For example, if an application identifies a specific sub-contractor to provide the services, the USDOL OSHA award does not provide the justification or basis to sole-source the procurement, i.e., to avoid competition.

2. Administrative and National Policy Requirements

All grantees, including faith-based organizations, will be subject to applicable federal laws and regulations (including provisions of appropriations law) and the applicable Office of Management and Budget (OMB) Circulars. The grant award(s) awarded under this SGA will be subject to the following administrative standards and provisions, as applicable to the particular grantee:

29 CFR Part 2, Subpart D, new equal treatment regulations.

29 CFR Parts 31, 32, 35 and 36 as applicable.

29 CFR Part 93, new restrictions on lobbying.

29 CFR Part 95, which covers grant requirements for nonprofit organizations, including universities and hospitals. These are the Department of Labor regulations implementing 2 CFR Part 215, formerly OMB Circular A-110.

29 CFR Part 98, government-wide debarment and suspension (nonprocurement) and government-wide requirements for drug-free workplace (grants).

2 CFR Part 220, formerly OMB Circular A-21, which describes allowable and unallowable costs for educational institutions.

2 CFR Part 230, formerly OMB circular A-122, which describes allowable and unallowable costs for other nonprofit organizations.

OMB Circular A-133, 29 CFR parts 96 and 99, which provide information about audit requirements.

Certifications. All applicants are required to certify to a drug-free workplace in accordance with 29 CFR part 98, to comply with the New Restrictions on Lobbying published at 29 CFR part 93, to make a certification regarding the debarment rules at 29 CFR part 98, and to complete a special lobbying certification.

Training Audience. Grant-funded training programs must serve multiple employers and their employees. Grant-funded training programs must serve individuals covered by the Occupational Safety and Health Act of 1970. As a part of the grant close-out process, grantees must self-certify that their grant-funded programs and materials were not provided to ineligible audiences.

Other. In keeping with the policies outlined in Executive Orders 13256, 12928, 13230, and 13021 as amended, the grantee is strongly encouraged to provide subgranting opportunities to Historically Black Colleges and Universities, Hispanic Serving Institutions, and Tribal Colleges and Universities.

3. Special Program Requirements

OSHA review of educational materials. OSHA will review all educational materials produced by the grantee for technical accuracy and suitability of content during development and before final publication. OSHA will also review previously-developed training curricula and purchased training materials for technical accuracy and suitability of content before the materials are used. Grantees developing training materials must follow all copyright laws and provide written certification that their materials are free from copyright infringements.

When grant recipients produce training materials, they must provide copies of completed materials to OSHA before the end of the grant period. OSHA has a lending program that circulates grant-produced audiovisual materials. Audiovisual materials produced by the grantee as a part of its grant program may be included in this lending program. In addition, all materials produced by grantees must be provided to OSHA in hard copy as well as in a digital format (CD Rom/DVD) for possible publication on the Internet by OSHA. Two copies of the materials must be provided to OSHA. Acceptable formats for training materials include Microsoft Office 2003 and Adobe Reader 7.

As stated in 29 CFR 95.36, the Department of Labor reserves a royalty-free, nonexclusive and irrevocable right to reproduce, publish, or otherwise use for federal purposes any work produced under a grant, and to authorize others to do so. Applicants should note that grantees must agree to provide the Department of Labor a paid-up, nonexclusive and irrevocable license to reproduce, publish, or otherwise use for federal purposes all products developed, or for which ownership was purchased, under an award including, but not limited to, curricula, training models, technical assistance products, and any related materials, and to authorize the Department of Labor to do so. Such uses include, but are not limited to, the right to modify and distribute such products worldwide by any means, electronic or otherwise.

Acknowledgment of USDOL Funding. In all circumstances, all approved grant-funded materials developed by a grantee shall contain the following disclaimer:

This material was produced under grant number ________ from the Occupational Safety and Health Administration, U.S. Department of Labor. It does not necessarily reflect the views or policies of the U.S. Department of Labor, nor does mention of trade names, commercial products, or organizations imply endorsement by the U.S. Government.

Public reference to grant: When issuing statements, press releases, requests for proposals, bid solicitations, and other documents describing projects or programs funded in whole or in part with federal money, all grantees receiving federal funds must clearly state:

• The percentage of the total costs of the program or project that will be financed with federal money;

• The dollar amount of federal financial assistance for the project or program; and

• The percentage and dollar amount of the total costs of the project or program that will be financed by non-governmental sources.

Use of U.S. Department of Labor (USDOL) OSHA Logo: The USDOL-OSHA logo may not be applied to any grant products developed with grant funds without advance written authority from OSHA.

4. Reporting

Grantees are required by Departmental regulations to submit program and financial reports each calendar quarter. All reports are due no later than 30 days after the end of the fiscal quarter and shall be submitted to the appropriate OSHA Regional Office.

The Grantee(s) shall submit financial reports on a quarterly basis. The first reporting period shall end on the last day of the fiscal quarter (December 31, March 31, June 30, or September 30) during which the grant was signed. Financial reports are due within 30 days of the end of the reporting period (i.e., by January 30, April 30, July 30, and October 30).

The Grantee(s) shall use Standard Form (SF) 269, Financial Status Report, to report the status of funds, at the project level, during the grant period. A final SF269 shall be submitted no later than 90 days following completion of the grant period.

Grantees will use the U.S. Department of Health and Human Services Payment Management System (HHS PMS) to receive federal funds and to report federal expenditures, and must also send USDOL copies of the PSC 272 that it submits to HHS, on the same schedule.

Technical Progress Reports: After signing the agreement, the Grantee(s) shall submit technical progress reports to USDOL/OSHA Regional Offices at the end of each fiscal quarter. Technical progress reports provide both quantitative and qualitative information and a narrative assessment of performance for the preceding three-month period. OSHA Form 171 shall be used for reporting training numbers and a narrative report shall be provided that details grant activities conducted during the quarter, information on how the project is progressing in achieving its stated objectives, and notes any problems or delays along with corrective actions proposed. The first reporting period shall end on the last day of the fiscal quarter (December 31, March 31, June 30, or September 30) during which the grant was signed. Quarterly progress reports are due within 30 days of the end of the report period (i.e., by January 30, April 30, July 30, and October 30.) Between reporting dates, the Grantees(s) shall also immediately inform USDOL/OSHA of significant developments and/or problems affecting the organization's ability to accomplish work.

(Authority: The Occupational Safety and Health Act of 1970, (29 U.S.C. 670), and the Revised Continuing Appropriations Resolution for Fiscal Year 2007, Pub. L. 110-5.)

Signed at Washington, DC, this 13th day of June, 2007.
Edwin G. Foulke, Jr.,
Assistant Secretary of Labor for Occupational Safety and Health.

Project Document Format

SF 424, Application for Federal Assistance form

Your organization is required to have a Data Universal Number System (DUNS) number (received from Dun and Bradstreet) to complete this form. Information about “Obtaining a DUNS Number—A Guide for Federal Grant and Cooperative Agreement Applicants” is available at http://www.whitehouse.gov/omb/grants/duns_num_guide.pdf.

Survey on Ensuring Equal Opportunity for Applicants (Faith-Based EEO Survey) form, (OMB No. 1890-0014)

Program Summary (not to exceed two single-sided pages)

Budget Information, SF 424A form

Detailed Project Budget Backup

If applicable: provide a copy of approved indirect cost rate agreement, and statement of program income.

Technical Proposal, program narrative, not to exceed 30 single-sided pages, double-spaced, 12-point font, containing:

Problem Statement/Need for Funds

Administrative and Program Capability

Work plan

Assurances (SF 424B)

Combined Assurances, ED 80-0013

Organizational Chart

Evidence of Nonprofit status, (letter from the IRS) if applicable

Accounting System Certification, if applicable

Organizations that receive less than $1 million annually in federal grants must attach a certification signed by your certifying official stating that your organization has a functioning accounting system that meets the criteria below. Your organization may also designate a qualified entity (include the name and address in the documentation) to maintain a functioning accounting system that meets the criteria below. The certification should attest that your organization's accounting system provides for the following:

1. Accurate, current and complete disclosure of the financial results of each federally sponsored project.

2. Records that identify adequately the source and application of funds for federally sponsored activities.

3. Effective control over and accountability for all funds, property and other assets.

4. Comparison of outlays with budget amounts.

5. Written procedures to minimize the time elapsing between the transfer of funds.

6. Written procedures for determining the reasonableness, allocability and allowability of costs.

7. Accounting records, including cost accounting records, that are supported by source documentation.

Attachments such as:

Summaries of other relevant organizational experience; information on prior government grants; resumes of key personnel or position descriptions; signed letters of commitment to the project.

Attachments (forms)

SF-424, Application for Federal Assistance

Survey on Ensuring Equal Opportunity for Applicants (Faith-Based EEO Survey) form, (OMB No. 1890-0014)

SF-424A, Budget Information form

SF 424B, Assurances

Combined Assurances, ED 80-0013

The forms are also available at:

http://www.grants.gov

http://www.osha.gov/dcsp/ote/sharwood.html—(information purposes only).

BILLING CODE 4510-26-P

[FR Doc. 07-3001 Filed 6-20-07; 8:45 am]

BILLING CODE 4510-26-C